DEPARTMENT OF HEALTH AND HUMAN SERVICES

Administration for Children and Families; Office of Refugee Resettlement

AGENCY: Office of Refugee Resettlement, ACF, HHS.

ACTION: Notice to Award Five Program Expansion Supplements to Wilson-Fish Projects.

CFDA Number: 93.583.

Legislative Authority: The Refugee Act of 1980 as amended, Wilson-Fish Amendment, 8 U.S.C. 1522(e)(7); section 412(e)(7)(A) of the Immigration and Nationality Act.

Amount of Award: $1,744,533.

Period Of Support: 09/30/2009-09/29/2010.

SUMMARY: The Office of Refugee Resettlement (ORR) announces the award of program expansion supplements to five Wilson-Fish Program grantees. The Wilson-Fish Program is an alternative to traditional State-administered refugee assistance programs and provides integrated assistance and services to refugees, asylees, Amerasian Immigrants, Cuban and Haitian Entrants, Trafficking Victims and Iraqi/Afghani Special Immigrant Visas (SIVs). The five supplemental awards will allow the grantees to provide cash and medical assistance to arriving refugees and to others who are also eligible for refugee benefits through the remainder of Fiscal Year (FY) 2009. The expansion supplement awards will enable the grantees to provide services needed to a higher number of arrivals than originally planned. The Refugee Act of 1980 mandates that the ORR reimburse State agencies and Wilson-Fish projects for the costs of cash and medical assistance for newly arriving refugees. Since 1991, ORR has reimbursed State agencies and Wilson-Fish agencies for providing cash and medical assistance to eligible individuals during their first eight months in the United States. The following Wilson-Fish Program grantees are awarded program expansion supplemental funding:

Grantee organization | Location | Amount of award
Catholic Social Services | Anchorage, AK | $86,931
Colorado Department of Human Services | Denver, CO | 798,411
Catholic Charities of Louisville | Louisville, KY | 575,000
Catholic Charities Diocese of Baton Rouge | Baton Rouge, LA | 94,368
Massachusetts Office of Refugees and Immigrants | Boston, MA | 189,823

FOR FURTHER INFORMATION CONTACT: Carl Rubenstein, Wilson-Fish Program Manager, Office of Refugee Resettlement, Aerospace Building, 8th Floor West, 901 D Street SW., Washington, DC 20447. Telephone: 202-205-5933 E-mail: crubenstein@acf.hhs.gov.

Dated: July 27, 2009.
Eskinder Negash,
Director, Office of Refugee Resettlement.

[FR Doc. E9-18521 Filed 8-3-09; 8:45 am]

BILLING CODE 4184-01-P